NATIONAL SCIENCE FOUNDATION

Agency Information Collection Activities: Submission for OMB Review; Comment Request

AGENCY: National Science Foundation.

ACTION: Submission for OMB Review; Comment Request.

The National Science Foundation (NSF) has submitted the following information collection requirement to OMB for review and clearance under the Paperwork Reduction Act of 1995, Public Law 104-13. This is the second notice for public comment; the first was published in the Federal Register at 77 FR 76077 and no comments were received. NSF is forwarding the proposed renewal submission to the Office of Management and Budget (OMB) for clearance simultaneously with the publication of this second notice. The full submission may be found at: http://www.reginfo.gov/public/do/PRAMain.

Comments: Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725-17th Street NW., Room 10235, Washington, DC 20503, and to Suzanne H. Plimpton, Reports Clearance Officer, National Science Foundation, 4201 Wilson Boulevard, Suite 295, Arlington, Virginia 22230 or send email to splimpto@nsf.gov. Comments regarding these information collections are best assured of having their full effect if received within 30 days of this notification. Copies of the submission(s) may be obtained by calling 703-292-7556.

Title: Generic Clearance of the National Center for Science and Engineering Statistics Improvement Projects.

OMB Approval Number: 3145-0174.

Abstract. Generic Clearance for the National Center for Science and Engineering Statistics Survey Improvement Projects. Established within the National Science Foundation by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public. NCSES conducts about a dozen nationally representative surveys to obtain the data for these purposes. The Generic Clearance will be used to ensure that the highest quality data are obtained from these surveys. State of the art methodology will be used to develop, evaluate, and test questionnaires and survey concepts as well as to improve survey methodology. This may include field or pilot tests of questions for future large-scale surveys, as needed.

Expected Respondents: The respondents will be from industry, academia, nonprofit organizations, members of the public, and State, local, and Federal governments. Respondents will be either individuals or institutions, depending upon the survey under investigation. Qualitative procedures will generally be conducted in person or over the phone, but quantitative procedures may be conducted using mail, Web, email, or phone modes, depending on the topic under investigation. Up to 11,060 respondents will be contacted across all survey improvement projects. No respondent will be contacted more than twice in one year under this generic clearance. Every effort will be made to use technology to limit the burden on respondents from small entities.

Both qualitative and quantitative methods will be used to improve NCSES's current data collection instruments and processes and to reduce respondent burden, as well as to develop new surveys. Qualitative methods include, but are not limited to, expert review; exploratory, cognitive, and usability interviews; focus groups; and respondent debriefings. Cognitive and usability interviews may include the use of scenarios, paraphrasing, card sorts, vignette classifications, and rating tasks. Quantitative methods include, but are not limited to, telephone surveys, behavior coding, split panel tests, and field tests.

Use of the Information: The purpose of these studies is to use the latest and most appropriate methodology to improve NCSES surveys and evaluate new data collection efforts. Methodological findings may be presented externally in technical papers at conferences, published in the proceedings of conferences, or in journals. Improved NCSES surveys will help policy makers in decisions on research and development funding, graduate education, and the scientific and technical workforce, as well as contributing to reduced survey costs.

Burden on the Public: NCSES estimates that a total reporting and recordkeeping burden of 14,280 hours will result from activities to improve its surveys. The calculation is shown in Table 1.

Table 1—Potential Surveys for Improvement Projects, With the Number of Respondents and Burden Hours
Survey name | Number of respondents ¹ | Hours
Graduate Student Survey | ² 1,500 | 2,500
SESTAT Surveys | 4,000 | 2,000
Early Career Doctorate Project | 2,000 | 2,500
New and Redesigned R&D Surveys:
Higher Education R&D | 400 | 1,200
Government R&D | 60 | 180
Nonprofit R&D | 100 | 300
Business R&D | 50 | 150
Microbusiness R&D | 150 | 450
Survey of Scientific & Engineering Facilities | 300 | 300
Public Understanding of S&E Surveys | 200 | 50
Survey of Earned Doctorates | 700 | 450
Additional surveys not specified | 1,600 | 4,200
Total | 11,060 | 14,280
¹ Number of respondents listed for any individual survey may represent several methodological improvement projects.
² This number refers to the science, engineering, and health-related departments within the academic institutions of the United States (not the academic institutions themselves).

Dated: March 8, 2013.
Suzanne H. Plimpton,
Reports Clearance Officer, National Science Foundation.

[FR Doc. 2013-05891 Filed 3-13-13; 8:45 am]

BILLING CODE 7555-01-P